DEPARTMENT OF THE INTERIOR

Bureau of Land Management

[LLCON00000 L10200000 DF0000.LXSS080C0000]

Notice of Public Meeting, Northwest Colorado Resource Advisory Council Meeting

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Northwest Colorado Resource Advisory Council (RAC) will meet as indicated below.

DATES: The Northwest Colorado RAC has scheduled its remaining 2011 meetings for June 9, August 18, and December 1.

ADDRESSES: The June 9 meeting will be held in Kremmling, Colorado, at the Arlington Inn and Suites, 215 W. Central Ave. The August 18 meeting will be in Craig, Colorado, at the Hampton Inn and Suites, 377 Cedar Court. The December 1 meeting will be in Gateway, Colorado, at the Gateway Canyons Resort, 43200 Colorado Highway 141. Each meeting will begin at 8 a.m. and adjourn at approximately 3 p.m., with public comment periods regarding matters on the agenda at 10 a.m. and 2 p.m.

FOR FURTHER INFORMATION CONTACT: David Boyd, Public Affairs Specialist, Colorado River Valley Field Office, 2300 River Frontage Road, Silt, CO. (970) 876-9008. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Northwest Colorado RAC advises the Secretary of the Interior, through the Bureau of Land Management, on a variety of public land issues in Colorado.

Topics of discussion during Northwest Colorado RAC meetings may include the BLM National Sage Grouse Conservation Strategy, working group reports, recreation, fire management, land use planning, invasive species management, energy and minerals management, travel management, wilderness, wild horse herd management, land exchange proposals, cultural resource management, and other issues as appropriate. These meetings are open to the public. The public may present written comments to the RACs. Each formal RAC meeting will also have time, as identified above, allocated for hearing public comments. Depending on the number of persons wishing to comment and time available, the time for individual oral comments may be limited.

Subcommittees under this RAC meet regarding the McInnis Canyon National Conservation Area, Resource Management Plan revisions for the Colorado River Valley, Kremmling, and Grand Junction field offices, and the White River Field Office Resource Management Plan Oil and Gas Amendment. Subcommittees report to the NW RAC at each council meeting. Subcommittee meetings are open to the public. More information is available at http://www.blm.gov/co/st/en/BLM_Resources/racs/nwrac.html.

Dated: April 15, 2011.
Helen M. Hankins,
State Director.

[FR Doc. 2011-9535 Filed 4-19-11; 8:45 am]

BILLING CODE 4310-JB-P